DEPARTMENT OF HOMELAND SECURITY

Federal Emergency Management Agency

44 CFR Part 67

[Docket ID FEMA-2014-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Caddo Parish, Louisiana, and Incorporated Areas
Docket No.: FEMA-B-1233
Backwater effects from 81st Street Drainage Ditch | At the intersection of Linwood Avenue and West 67th Street | +203 | City of Shreveport.
| Approximately 130 feet east of the intersection of Wallace Avenue and West 67th Street | +203
Backwater effects from Airport Ditch | Approximately 40 feet north of the intersection of Valley View Drive and Trammel Drive | +185 | City of Shreveport.
| Approximately 820 feet north of the intersection of Valley View Drive and Trammel Drive | +185
Backwater effects from Airport Ditch | Approximately 240 feet southeast of the intersection of Dollarway Drive and Amie Street | +192 | City of Shreveport.
| At the intersection of Dollarway Drive and Jewella Avenue | +192
Backwater effects from Airport Ditch | Approximately 425 feet southeast of the intersection of Dollarway Drive and Karen Street | +192 | City of Shreveport.
| Approximately 160 feet east of the intersection of Dollarway Drive and Karen Street | +192
Backwater effects from Airport Ditch | Approximately 750 feet south of the intersection of West 70th Street and the railroad | +198 | City of Shreveport.
| Approximately 170 feet south of the intersection of West 70th Street and the railroad | +198
Backwater effects from Airport Ditch | Approximately 500 feet southeast of the intersection of Kennedy Drive and West 70th Street | +204 | City of Shreveport.
| Approximately 130 feet southwest of the intersection of West 70th Street and the railroad | +204
Backwater effects from Airport Ditch | Approximately 290 feet northwest of the intersection of Kennedy Drive and West 70th Street | +206 | City of Shreveport.
| Approximately 1,050 feet northwest of the intersection of Kennedy Drive and West 70th Street | +206
Backwater effects from Audrey Lane Lateral | Approximately 330 feet north of the intersection of Audrey Lane and Willis Street | +187 | City of Shreveport.
| Approximately 710 feet northeast of the intersection of Hazel Street and Willis Street | +187
Backwater effects from Bayou Pierre | Approximately 114 feet south of the intersection of Huron Street and Gilbert Drive | +166 | City of Shreveport.
| Approximately 543 feet southwest of the intersection of Huron Street and Gilbert Drive | +166
Backwater effects from Boggy Bayou | Approximately 770 feet southwest of the intersection of Harper Road and Colquitt Road | +172 | Unincorporated Areas of Caddo Parish.
| Approximately 1,240 feet west of the intersection of Harper Road and Colquitt Road | +172
Backwater effects from Brush Bayou | Approximately 1,520 feet northwest of the intersection of Linwood Avenue and Bert Kouns Industrial Loop | +170 | City of Shreveport.
| Approximately 1,700 feet southwest of the intersection of Linwood Avenue and Kennie Road | +170
Backwater effects from Brush Bayou | Approximately 660 feet southwest of the intersection of Wilshire Drive and Pine Tree Drive | +184 | City of Shreveport.
| Approximately 650 feet northeast of the intersection of Trammel Drive and Valley View Drive | +184
Backwater effects from Cargill Lateral | Approximately 50 feet west of the intersection of Chateau Drive and Legion Circle | +196 | City of Shreveport.
| Approximately 420 feet southwest of the intersection of Chateau Drive and Classic Circle | +196
Backwater effects from Choctaw Bayou | Approximately 0.65 mile west of the intersection of Tolmak Road and Industry Road | +180 | Unincorporated Areas of Caddo Parish.
| Approximately 0.59 mile northwest of the intersection of Tolmak Road and Industry Road | +180
Backwater effects from Cross Bayou Tributary 3 | Approximately 0.39 mile northeast of the intersection of Greenwood Heights Street and U.S. Route 80 | +231 | Town of Greenwood.
| Approximately 0.48 mile northeast of the intersection of Greenwood Heights Street and U.S. Route 80 | +231
Backwater effects from Industrial Park Lateral | Approximately 530 feet southwest of the intersection of Sandalwood Drive and Green Forest Road | +176 | City of Shreveport.
| Approximately 530 feet west of the intersection of Sandalwood Drive and Green Forest Road | +176
Backwater effects from Industrial Park Lateral | Approximately 570 feet southeast of the intersection of Castlebrook Circle and Castlebrook Drive | +178 | City of Shreveport.
| Approximately 740 feet northwest of the intersection of Castlebrook Circle and Castlebrook Drive | +178
Backwater effects from Industrial Park Lateral | Approximately 110 feet southwest of the intersection of Lytham Drive and Tyne Drive | +179 | City of Shreveport.
| Approximately 250 feet southeast of the intersection of Newcastle Boulevard and Lytham Drive | +179
Backwater effects from Industrial Park Lateral | Approximately 1,400 feet southeast of the intersection of Pines Road and Bert Kouns Industrial Loop | +185 | Unincorporated Areas of Caddo Parish.
| Approximately 800 feet southwest of the intersection of Pines Road and Bert Kouns Industrial Loop | +185
Backwater effects from Lincoln Memorial Lateral | Approximately 1,190 feet northwest of the intersection of McGoldrick Drive and Bert Kouns Industrial Loop | +203 | City of Shreveport.
| Approximately 0.63 mile northwest of the intersection of McGoldrick Drive and Bert Kouns Industrial Loop | +203
Backwater effects from Lincoln Memorial Lateral | Approximately 1,300 feet west of the intersection of Buncombe Road and the railroad | +209 | City of Shreveport, Unincorporated Areas of Caddo Parish.
| Approximately 1,570 feet northwest of the intersection of Buncombe Road and the railroad | +209
Backwater effects from McCain Creek | Approximately 1,600 feet southeast of the intersection of North Forty Drive and North Market Street | +190 | Unincorporated Areas of Caddo Parish.
| Approximately 270 feet southwest of the intersection of Eakin Road and Old Mooringsport Road | +190
Backwater effects from McCain Creek | Approximately 1,600 feet southeast of the intersection of North Market Street and State Route 538 (Old Mooringsport Road) | +192 | Unincorporated Areas of Caddo Parish.
| Approximately 1,020 feet southeast of the intersection of North Market Street and State Route 538 (Old Mooringsport Road) | +192
Backwater effects from McCain Creek | Approximately 450 feet east of the intersection of Alaska Lane and Canada Court | +195 | Unincorporated Areas of Caddo Parish.
| Approximately 190 feet east of the intersection of Alaska Lane and Vancouver Drive | +195
Backwater effects from McCain Creek | Approximately 1,630 feet southwest of Roy Road | +202 | Unincorporated Areas of Caddo Parish.
| Approximately 0.56 mile southwest of Roy Road | +202
Backwater effects from McCain Creek | Approximately 1.1 miles southeast of the intersection of Luke Lane and Tom Ridge Road | +211 | Unincorporated Areas of Caddo Parish.
| Approximately 0.79 mile northeast of the intersection of Luke Lane and Tom Ridge Road | +211
Backwater effects from Red River | Approximately 650 feet southeast of the intersection of South Pointe Parkway and Dee Street | +163 | City of Shreveport.
| Approximately 1,050 feet northeast of the intersection of South Pointe Parkway and Dee Street | +163
Backwater effects from Shirley Francis Lateral | Approximately 440 feet southwest of the Industrial Park Lateral confluence | +206 | City of Shreveport.
| Approximately 870 feet southwest of the Industrial Park Lateral confluence | +206
Backwater effects from South Broadmoor Lateral | Approximately 100 feet south of the intersection of Martha Ann Drive and Pugh Avenue | +159 | City of Shreveport.
| Approximately 50 feet south of the intersection of Schaub Drive and Pugh Avenue | +159
Backwater effects from South Broadmoor Lateral | Approximately 239 feet east of the intersection of Jackson Square Place and Fountainbleau Drive | +159 | City of Shreveport.
| Approximately 786 feet east of the intersection of Jackson Square Place and Fountainbleau Drive | +159
Brookwood Ditch | At the downstream side of the railroad | +188 | City of Shreveport.
| Approximately 100 feet downstream of Hawthorne Drive | +190
Caddo Lake | Approximately 0.57 mile northwest of the intersection of Caddo Lake Road and Haphazard Road | +181 | Unincorporated Areas of Caddo Parish.
Cargill Lateral | Approximately 250 feet downstream of Valley View Drive | +196 | City of Shreveport.
| Approximately 50 feet upstream of the railroad | +207
Cross Bayou Lateral | At the downstream side of Weinstock Street | +194 | City of Shreveport.
| Approximately 80 feet upstream of Weinstock Street | +196
Cross Lake | Approximately 1,200 feet southeast of the intersection of North Lakeshore Drive and Lakeview Road | +177 | Unincorporated Areas of Caddo Parish.
Ponding area (flooding effects from Cross Bayou) | Entire ponding area approximately 730 feet west of the intersection of Shreveport Blanchard Highway and North Hearne Avenue | +166 | City of Shreveport.
Ponding area (flooding effects from Cross Bayou) | Entire ponding area approximately 1,030 feet northwest of the intersection of Shreveport Blanchard Highway and North Hearne Avenue | +166 | City of Shreveport.
Ponding area (flooding effects from Gilmer Bayou) | Entire ponding area approximately 1,760 feet north of the intersection of Grantham Street and Chambers Street | +195 | City of Shreveport.
Ponding area (flooding effects from Hollywood Ditch) | Entire ponding area approximately 600 feet southeast of the intersection of Evers Drive and Broadway Avenue | +205 | City of Shreveport.
Ponding area (flooding effects from Red River) | Entire ponding area approximately 510 feet east of the intersection of East Kings Highway and Captain H. M. Shreve Boulevard | +161 | City of Shreveport.
Ponding area (flooding effects from Red River) | Entire ponding area approximately 555 feet north of the intersection of East Kings Highway and Captain H. M. Shreve Boulevard | +161 | City of Shreveport.
Ponding area (flooding effects from Red River) | Entire ponding area approximately 1,500 feet southeast of the intersection of I-20 and Spring Street | +165 | City of Shreveport.
Ponding area (flooding effects from Red River) | Entire ponding area approximately 900 feet southeast of the intersection of Monty Avenue and Taft Street | +166 | City of Shreveport.
Ponding area (flooding effects from Wallace Lake) | Entire ponding area approximately 0.49 mile south of the intersection of Ellerbe Road and Robson Road | +160 | Unincorporated Areas of Caddo Parish.
Shallow flooding | Approximately 165 feet south of the intersection of Chelsea Drive and Grover Place | +162 | City of Shreveport.
| Approximately 145 feet south of the intersection of Sand Beach Boulevard and Grover Place | +162
Shallow flooding | Approximately 195 feet east of the intersection of Roma Drive and Sand Beach Boulevard | +162 | City of Shreveport.
| Approximately 705 feet east of the intersection of Roma Drive and Sand Beach Boulevard | +162
Shallow flooding | Approximately 490 feet southeast of the intersection of Orchid Street and Pennsylvania Avenue | +162 | City of Shreveport.
Shallow flooding | Approximately 350 feet southeast of the intersection of Tibbs Avenue and Pennsylvania Avenue | +162 | City of Shreveport.
Shallow flooding | An area bounded by Bruce Avenue to the north, Anniston Avenue to the east, Norwood Street to the south, and Roma Drive to the west | +162 | City of Shreveport.
Shallow flooding | An area bounded by Leo Avenue to the north, Steere Drive to the east, Carrollton Avenue to the south, and Akard Avenue to the west | +162 | City of Shreveport.
Shallow flooding | Approximately 110 feet east of the intersection of Youree Drive and Preston Avenue | +162 | City of Shreveport.
| Approximately 620 feet northeast of the intersection of Youree Drive and Preston Avenue | +162
Shallow flooding | Approximately 360 feet east of the intersection of Akard Avenue and Ockley Drive | +162 | City of Shreveport.
| Approximately 1,220 feet east of the intersection of Akard Avenue and Ockley Drive | +162
Shallow flooding | An area bounded by Carrollton Avenue to the north, Steere Drive to the east, Pennsylvania Avenue to the south, and Akard Avenue to the west | +162 | City of Shreveport.
Shallow flooding | Approximately 440 feet north of the intersection of Kathy Lane and Kathy Circle | +162 | City of Shreveport.
Shallow flooding | Approximately 340 feet southwest of the intersection of Ockley Drive and Akard Avenue | +162 | City of Shreveport.
Shallow flooding | From approximately 90 feet northwest of the railroad to approximately 250 feet southeast of the intersection of Hawthorne Drive and Torento Lane | +189 | City of Shreveport.
Shallow flooding | An area bounded by East 68th Street to the north, Line Avenue to the east, East 74th Street to the south, and Southern Avenue to the west | +208 | City of Shreveport.
Unnamed flooding source (flooding effects from Bayou Pierre) | Approximately 0.61 mile north of the intersection of Explorer Road and Robson Road | +153 | Unincorporated Areas of Caddo Parish.
| Approximately 0.80 mile northwest of the intersection of Jeter Road and Robson Road | +153
Unnamed flooding source (flooding effects from Bayou Pierre) | Approximately 0.39 mile southeast of the intersection of Rose Ridge Circle and Leonard Road | +153 | Unincorporated Areas of Caddo Parish.
| Approximately 0.81 mile southeast of the intersection of Westchester Circle and Nottingham Drive | +153
Unnamed flooding source (flooding effects from Bayou Pierre) | Approximately 0.76 mile north of the intersection of Explorer Road and Robson Road | +153 | Unincorporated Areas of Caddo Parish.
| Approximately 1.20 miles northeast of the intersection of Bent Tree Drive and Ellerbe Road | +153
Unnamed flooding source (flooding effects from Bayou Pierre) | Approximately 1,690 feet northwest of the intersection of Red Haw Lane and Leonard Road | +154 | Unincorporated Areas of Caddo Parish.
| Approximately 0.46 mile northeast of the intersection of Ellerbe Road and Bob White Lane | +155
Unnamed flooding source (flooding effects from Red River | Approximately 295 feet southwest of the intersection of North Common Street and Airport Drive | +167 | City of Shreveport.
| Approximately 730 feet northeast of the intersection of Ute Terrace and Grimmett Drive | +171
* National Geodetic Vertical Datum.
+ North American Vertical Datum.
# Depth in feet above ground.
‸ Mean Sea Level, rounded to the nearest 0.1 meter.
Addresses
City of Shreveport
Maps are available for inspection at the Office of the City Engineer, 505 Travis Street, Suite 300, Shreveport, LA 71101.
Town of Greenwood
Maps are available for inspection at City Hall, 9381 Greenwood Road, Greenwood, LA 71033.
Unincorporated Areas of Caddo Parish
Maps are available for inspection at the Caddo Parish Department of Public Works, 505 Travis Street, Suite 820, Shreveport, LA 71101.

(Catalog of Federal Domestic Assistance No. 97.022, “Flood Insurance.”)

Dated: January 31, 2014.
Roy E. Wright,
Deputy Associate Administrator for Mitigation, Department of Homeland Security, Federal Emergency Management Agency.

[FR Doc. 2014-06091 Filed 3-19-14; 8:45 am]

BILLING CODE 9110-12-P